FEDERAL COMMUNICATIONS COMMISSION

47 CFR Part 64

[WC Docket No. 12-375; FCC 13-113]

Rates for Interstate Inmate Calling Services

AGENCY: Federal Communications Commission.

ACTION: Final rule; announcement of effective date.

SUMMARY: On September 26, 2013, the Federal Communications Commission (Commission) released a Report and Order and Further Notice of Proposed Rulemaking, Rates for Interstate Inmate Calling Services, WC Docket No. 12-375, FCC 13-113, (Report and Order) which required, among other things, that all ICS providers comply with a one-time mandatory data collection provided in Section III.I of the Report and Order. This information collection requirement in the Report and Order required approval from the Office of Management and Budget (OMB). This document announces the approval of and effective date of the one-time mandatory data collection requirement.

DATES: The information collection requirement in Section III.I, published on November 13, 2013 (78 FR 67956), was approved by the OMB on June 2, 2014. Accordingly, the information collection requirements provided in Section III.I of the Report and Order are effective June 12, 2014.

FOR FURTHER INFORMATION CONTACT: Lynne Hewitt Engledow, Wireline Competition Bureau, (202) 418-1520 or lynne.engledow@fcc.gov.

SUPPLEMENTARY INFORMATION: The Report and Order stated that the information collection requirements would be effective immediately upon announcement in the Federal Register of OMB approval. On June 2, 2014, OMB approved the information collection requirement contained in Section III.I of this Report and Order pursuant to OMB Control Number: 3060-1196, Inmate Calling Services (ICS) Data Collection. Accordingly, the information collection requirement contained in Section III.I of the Report and Order is effective June 12, 2014. The expiration date for the information collection is June 30, 2017. The Commission will announce, in a separate notice, the due date by which respondents must submit the required data.

Pursuant to the Paperwork Reduction Act of 1995, 44 U.S.C. 3501-3520, an agency may not conduct or sponsor a collection of information unless it displays a currently valid control number. Notwithstanding any other provisions of law, no person shall be subject to any penalty for failing to comply with the collection of information subject to the Paperwork Reduction Act that does not display a valid control number. Questions concerning this information collection, 3060-1196, should be directed to Leslie F. Smith, Federal Communications Commission at (202) 418-0217 or leslie.smith@fcc.gov.

The total annual reporting burdens and costs for the respondents are as follows:

OMB Control Number: 3060-1196.

OMB Approval Date: June 2, 2014.

OMB Expiration Date: June 30, 2017.

Title: Rates for Inmate Calling Services Data Collection.

Form Number: N/A.

Respondents: Business or other for profit, federal government.

Number of Respondents and Responses: 25 respondents; 25 responses.

Estimated Time per Response: 90 hours.

Frequency of Response: One-time reporting requirement and one-time recordkeeping requirement.

Obligation to Respond: Required to obtain or maintain benefits.

Total Annual Burden: 2,250 hours.

Total Annual Cost: None.

Nature and Extent of Confidentiality: The Commission anticipates providing confidential treatment for proprietary information submitted by ICS providers. Parties that comply with the terms of a protective order for the proceeding will have an opportunity to comment on the data.

Needs and Uses: The Commission's Report and Order required that all inmate calling service (ICS) providers comply with a one-time mandatory data collection. The Report and Order requires ICS providers to submit data on the costs of providing interstate, intrastate toll, and local ICS. Data required to be submitted include data on the costs of telecommunications service, interconnection fees, equipment investment, installation and maintenance, security, ancillary services, and other costs. Providers will also be required to provide certain related rate, demand, and forecast data. The data will be used to inform the Commission's evaluation of rate reform options in the FNPRM, to enable the Commission to transition from interim rate reform to permanent rate reform, and to enable the Commission to discharge its core responsibility of ensuring just, reasonable and fair rates as required by sections 201 and 276 by ensuring ICS rates are just, reasonable, and fair pursuant to sections 201(b) and 276 of the Communications Act of 1934, as amended.

Federal Communications Commission.
Sheryl Todd,
Deputy Secretary.

[FR Doc. 2014-13782 Filed 6-11-14; 8:45 am]

BILLING CODE 6712-01-P